DEPARTMENT OF JUSTICE

Notice of Lodging of Proposed Consent Decree Under the Comprehensive Environmental Responsibility, Compensation and Liability Act

On November 6, 2012 the Department of Justice lodged a proposed Consent Decree for Removal Action and Recovery of Response Costs (“Consent Decree”) with the United States District Court for the Southern District of Illinois in the lawsuit entitled United States v. Phillips 66 Pipeline LLC, Civil Action No. 12-1159-MJR-PMF.

The proposed Consent Decree is related to the property known as the Rogers Cartage Site (the “Site”), which is owned by Phillips 66 Pipeline LLC (“Defendant”) and located at 3300 Mississippi Avenue, in Cahokia, St. Clair County, Illinois. The United States, on behalf of the United States Environmental Protection Agency (“EPA”), has brought claims against the Defendant under Sections 106 and 107 of the Comprehensive Environmental Responsibility, Compensation and Liability Act (“CERCLA”), 42 U.S.C. 9606 and 9607, in a Complaint filed in the same lawsuit. The United States alleges that the Defendant is responsible for the implementation of a response action at the Site not inconsistent with the National Contingency Plan (NCP), 40 CFR part 300, which is necessary to abate imminent and substantial risks posed by the presence of hazardous substances at the Site, including polychlorinated biphenyls (PCBs). The United States also seeks recovery of response costs that it has incurred in responding to the release or threatened release of hazardous substances at and from the Site, and a declaratory judgment on liability for response costs that will be binding on any subsequent action or actions to recover further response costs pursuant to Section 113(g)(2) of CERCLA, 42 U.S.C. 9613(g)(2).

Under the proposed Consent Decree, the Defendant would implement a response action that was selected by EPA. The response action would consist of the excavation of all soil at the Site that contains concentrations of PCBs exceeding the applicable standards at 40 CFR 761.61(a)(4), and off-site disposal of contaminated soil in accordance with 40 CFR 300.440. The response action would be performed in accordance with EPA's Action Memorandum dated October 11, 2011 and a Statement of Work, which are attached to the proposed Consent Decree. In addition, within 30 days of the entry of the proposed Consent Decree, the Defendant would reimburse EPA $65,224.12, which is approximately 70% of all past costs incurred by the United States in connection with the Site. The Defendant would also reimburse EPA for all future response costs not inconsistent with the NCP.

The publication of this notice opens a period for public comment on the proposed Consent Decree. Comments should be addressed to the Assistant Attorney General, Environment and Natural Resources Division, and should refer to United States v. Phillips 66 Pipeline LLC, D.J. Ref. No. 90-11-3-10471. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $21.75 (25 cents per page reproduction cost) payable to the United States Treasury if you wish to receive the complete proposed Consent Decree with all appendices. For a paper copy of the proposed Consent Decree without the appendices and signature pages, the cost is $14.50.

Maureen Katz,
Assistant Section Chief, Environmental Enforcement Section, Environment and Natural Resources Division.

[FR Doc. 2012-27502 Filed 11-9-12; 8:45 am]

BILLING CODE 4410-15-P